DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Required and Optional Search Criteria for Computer Implemented Business Method Patent Applications in Class 705.

Form Numbers: No Forms Associated.

Agency Approval Number: 0651-00XX.

Type of Request: New Information Collection.

Burden: 150 hours.

Number of Respondents: 100 responses.

Avg. Hours Per Response: Based on estimates from surveys, the USPTO estimates that it will take the public one and a half hours (1.5 hours) to gather, prepare, and submit comments recommending a database to the USPTO for evaluation.

Needs and Uses: There are no specific statutes or regulations requiring the USPTO to collect the database recommendations solicited in the Notice. The USPTO is collecting the information as part of its continuing efforts to improve customer service, to improve the quality of patent examination, and to decrease the amount of time that it takes to examine a patent application and issue it as a patent. The USPTO is soliciting comments from the public on various aspects of the database, such as the type and amount of information that it contains, the search interface, cost, and accessibility so that they can evaluate the resources that are currently in use, and evaluate possible new resources to add to the existing ones in use. The public will use this information collection to recommend databases to the USPTO for evaluation and to provide information that the USPTO needs to effectively evaluate the items such as database content, database identification, accessibility, technical support, continuity, and mode of access. In addition to evaluating the databases, the USPTO also uses this information to determine whether the database qualifies as a mandatory or supplemental search tool.

Affected Public: Individuals or households, businesses or other for-profit, not-for-profit institutions, farms, Federal government, and state, local or tribal government.

Frequency: On occasion.

Respondent's Obligation: Voluntary.

OMB Desk Officer: David Rostker, (202) 395-3897.

Copies of the above information collection proposal can be obtained by calling or writing Susan K. Brown, Records Officer, Data Administration Division, Office of Data Management, United States Patent and Trademark Office, Crystal Park 3, 3rd Floor, Suite 310, Washington, DC 20231, by phone at (703) 308-7400, or via the Internet at susan.brown@uspto.gov.

Written comments and recommendations for the proposed information collection should be sent on or before February 1, 2001 to David Rostker, OMB Desk Officer, Room 10236, New Executive Office Building, 725 17th Street, NW., Washington, DC 20503.

Dated: December 22, 2000.
Susan K. Brown,
Records Officer, Data Administration Division, Office of Data Management.

[FR Doc. 00-33375 Filed 12-29-00; 8:45 am]

BILLING CODE 3510-16-P